FEDERAL COMMUNICATIONS COMMISSION

47 CFR Part 73

[DA 05-36; MB Docket No. 03-181, RM-10758, and RM-11123]

Radio Broadcasting Services; Blanchard, Elmore City, Weatherford and Wynnewood, OK

AGENCY: Federal Communications Commission.

ACTION: Final rule.

SUMMARY: The Audio Division, at the request of Wright Broadcasting Systems, Inc., licensee of FM Station KWEY, Channel 247C1, Weatherford, Oklahoma, deletes Channel 247C1 at Weatherford, Oklahoma, from the FM Table of Allotments, allots Channel 247A at Blanchard, Oklahoma, as the community's first local FM service, and modifies the license of FM Station KWEY to specify operation on Channel 247A at Blanchard. Channel 247A can be allotted to Blanchard, Oklahoma, in compliance with the Commission's minimum distance separation requirements with a site restriction of 2.1 km (1.3 miles) southwest of Blanchard. The coordinates for Channel 247A at Blanchard, Oklahoma, are 35-07-21 North Latitude and 97-40-18 West Longitude.

DATES: Effective February 25, 2005.

FOR FURTHER INFORMATION CONTACT: Deborah Dupont, Media Bureau, (202) 418-2180.

SUPPLEMENTARY INFORMATION: This is a synopsis of the Commission's Report and Order, MB Docket No. 03-181, adopted January 5, 2005, and released January 10, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the General Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Oklahoma, is amended by removing Channel 247C1 at Weatherford and by adding Blanchard, Channel 247A.

Federal Communications Commission.
John A. Karousos,
Assistant Chief, Audio Division, Media Bureau.

[FR Doc. 05-1605 Filed 1-27-05; 8:45 am]

BILLING CODE 6712-01-P